DEPARTMENT OF THE INTERIOR

Bureau of Land Management

[MT-926-03-1420-BJ]

Montana: Filing of Amended Protraction Diagram Plats

AGENCY: Bureau of Land Management, Montana State Office, Interior.

ACTION: Notice of filing of amended protraction diagram plats.

SUMMARY: The Bureau of Land Management (BLM) will file the plats of the amended protraction diagrams in the BLM Montana State Office, Billings, Montana, (30) days from the date of publication in the Federal Register.

FOR FURTHER INFORMATION CONTACT: Robert L. Brockie, Cadastral Surveyor, Branch of Cadastral Survey, Bureau of Land Management, 5001 Southgate Drive, P.O. 36800, Billings, Montana 59107-6800, telephone (406) 896-5125 or (406) 896-5009.

SUPPLEMENTARY INFORMATION: The amended protraction diagrams were prepared at the request of the U.S. Forest Service, and were necessary to accommodate Revision of Primary Base Quadrangle Maps for the Geometronics Service Center. The lands for the prepared amended protraction diagrams are:

Principal Meridian, Montana

Tps. 15, 16, and 17 S., Rs. 10 and 12 W.

The plat, representing the Amended Protraction Diagram 56 Index of unsurveyed Townships 15, 16, and 17 South, Ranges 10 and 12 West, Principal Meridian, Montana, was accepted February 13, 2003.

T. 15 S., R. 12 W.

The plat, representing Amended Protraction Diagram 56 of unsurveyed Township 15 South, Range 12 West, Principal Meridian, Montana, was accepted February 13, 2003.

T. 16 S., R. 10 W.

The plat, representing Amended Protraction Diagram 56 of unsurveyed Township 16 South, Range 10 West, Principal Meridian, Montana, was accepted February 13, 2003.

T. 17 S., R. 10 W.

The plat, representing Amended Protraction Diagram 56 of unsurveyed Township 17 South, Range 10 West, Principal Meridian, Montana, was accepted February 13, 2003.

T. 7 S., R. 13 W.

The plat, representing Amended Protraction Diagram 57 (no index) of unsurveyed Township 7 South, Range 13 West, Principal Meridian, Montana, was accepted February 13, 2003.

We will place a copy of the plats we described in the open files. They will be available to the public as a matter of information.

If BLM receives protests against these amended protraction diagrams, as shown on these plats, prior to the date of the official filings, we will stay the filings pending our consideration of the protests.

We will not officially file these plats of the amended protraction diagrams until the day after we have accepted or dismissed all protests and they have become final, including decisions on appeals.

Dated: February 19, 2003.
Thomas M. Deiling,
Chief Cadastral Surveyor, Division of Resources.

[FR Doc. 03-4485 Filed 2-25-03; 8:45 am]

BILLING CODE 4310-44-P